DEPARTMENT OF ENERGY

Federal Energy Regulatory Commission

[Docket No. ES05-36-000]

Platte-Clay Electric Cooperative, Inc.; Notice of Application

August 2, 2005.

Take notice that on July 25, 2005, Platte-Clay Electric Cooperative, Inc. (Platte-Clay) submitted an application pursuant to section 204 of the Federal Power Act requesting that: (1) The commission issue a no action order with regard to Platte-Clay's issuance of securities to the National Rural Utilities Cooperative Finance Corporation (CFC) that occurred without prior authorization; and (2) that the Commission authorize Platte-Clay to continue to make long-term borrowings under a loan agreement with the National Rural Utilities Cooperative Finance Corporation (CFC) in an amount not to exceed $75 million.

Platte-Clay also requests a waiver from the Commission's competitive bidding and negotiated placement requirements at 18 CFR 34.2.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on August 23, 2005.

Magalie R. Salas,
Secretary.

[FR Doc. E5-4317 Filed 8-9-05; 8:45 am]

BILLING CODE 6717-01-P